DEPARTMENT OF ENERGY

Federal Energy Regulatory Commission

[Docket Nos. RP96-312-037 and GT01-5-001]

Tennessee Gas Pipeline Company; Notice of Compliance Filing

January 5, 2001.

Take notice that on December 19, 2000, Tennessee Gas Pipeline Company (“Tennessee”), P.O. Box 2511, Houston, Texas 77252, tendered for filing (1) Substitute Original Sheet No. 30G and First Revised Sheet No. 413A for inclusion in Tennessee's FERC Gas Tariff, Fifth Revised Volume No. 1, and (2) a copy of a July 31, 2000 Gas Transportation Agreement between Tennessee and Milford Power Company (the “Milford Agreement”).

Tennessee states that the Milford Agreement and First Revised Sheet No. 413A are being filed in compliance with the Commission's December 13, 2000 letter order (“December 13 Order”) in the above-referenced proceeding. In that regard, in its December 13 Order, the Commission found the Milford Agreement to be a non-conforming service agreement. In addition, Tennessee has revised Original Tariff Sheet No. 30G to indicate that the Milford Agreement deviates in a material respect from Tennessee's pro forma Rate Schedule FT-A Gas Transportation Agreement Tennessee requests that the Commission approve the Milford Agreement and First Revised Sheet No. 413A affective January 18, 2001 and Substitute Original Sheet No. 30G effective December 15, 2000.

Tennessee states that copies of the filing have been mailed to all affected customers and state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 01-859 Filed 1-10-01; 8:45 am]

BILLING CODE 6717-01-M